DEPARTMENT OF COMMERCE

International Trade Administration

Export Trade Certificate of Review

ACTION: Notice of Application to Amend an Export Trade Certificate of Review.

SUMMARY: Export Trading Company Affairs (“ETCA”) of the International Trade Administration, Department of Commerce, has received an application to amend an Export Trade Certificate of Review (“Certificate”). This notice summarizes the proposed amendment and requests comments relevant to whether the Certificate should be issued.

FOR FURTHER INFORMATION CONTACT: Jeffrey Anspacher, Director, Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021B, Washington, DC 20230. Information submitted by any person is exempt from disclosure under the Freedom of Information Act (5 U.S.C. 552). However, nonconfidential versions of the comments will be made available to the applicant if necessary for determining whether or not to issue the Certificate. Comments should refer to this application as “Export Trade Certificate of Review, Ferrous Scrap Export Association (“FSEA”), application number 88-3A015.”

FSEA's original Certificate was issued on December 12, 1988 (53 FR 51294, December 21, 1988) and previously amended on February 28, 1989 (54 FR 9542, March 7, 1989); and February 5, 1999 (64 FR 6632, February 10, 1999). Also, a name change was announced changing the name of the FSEA Certificate Member “Witte-Chase Corporation” to “Metro Metal Recycling Corp” (55 FR 13581, April 11, 1990). A summary of the current application for an amendment follows.

Summary of the Application

Applicant: Ferrous Scrap Export Association (“FSEA”), 1209 Orange Street, Wilmington, Delaware 19809.

Contact: Fuad Rana, Attorney, Telephone: (202) 662-5348.

Application No.: 88-3A015.

Date Deemed Submitted: April 5, 2007.

Proposed Amendment: FSEA seeks to amend its Certificate to:

1. Add each of the following companies as a new “Member” of the Certificate within the meaning of section 325.2(l) of the Regulations (15 CFR 325.2(l)): Sims Hugo Neu Corporation; HNE Recycling LLC; and HNW Recycling LLC, each located in New York, NY.

2. Change the current Member listing of the trade name “Simsmetal America” to the legal name of “Sims Group USA Corporation”, and change the current Member listing of “Southern Scrap Material Co., Ltd.” to “Southern Recycling, LLC,” due to a company name change.

3. Delete the following companies as “Members” of the Certificate: Metro Metal Recycling Corp., New York, NY, and Proler International Corp., Portland, OR.

Dated: April 13, 2007.
Jeffrey Anspacher,
Director, Export Trading Company Affairs.

[FR Doc. E7-7411 Filed 4-18-07; 8:45 am]

BILLING CODE 3510-DR-P